DEPARTMENT OF TRANSPORTATION

Federal Aviation Administration

14 CFR Part 39

[Docket No. FAA-2019-0720; Product Identifier 2019-NM-117-AD; Amendment 39-19831; AD 2020-02-19]

RIN 2120-AA64

Airworthiness Directives; Bombardier, Inc., Airplanes

AGENCY: Federal Aviation Administration (FAA), DOT.

ACTION: Final rule; correction.

SUMMARY: The FAA is correcting an airworthiness directive (AD) that published in the Federal Register. That AD applies to certain Bombardier, Inc., Model CL-600-2B19 (Regional Jet series 100 & 440) airplanes. As published, paragraph (h)(2) of that AD specifies an incorrect service information reference for performing the inspection. This document corrects that error. In all other respects, the original document remains the same.

DATES: This correction is effective March 18, 2020.

The effective date of AD 2020-02-19 remains March 18, 2020.

The Director of the Federal Register approved the incorporation by reference of certain publications listed in this AD as of March 18, 2020 (85 FR 7857, February 12, 2020).

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet https://www.bombardier.com. You may view this referenced service information at the FAA, Transport Standards Branch, 2200 South 216th St., Des Moines, WA. For information on the availability of this material at the FAA, call 206-231-3195. It is also available on the internet at https://www.regulations.gov by searching for and locating Docket No. FAA-2019-0720.

Examining the AD Docket

You may examine the AD docket on the internet at https://www.regulations.gov by searching for and locating Docket No. FAA-2019-0720; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Andrea Jimenez, Aerospace Engineer, Airframe and Mechanical Systems Section, FAA, New York ACO Branch, 1600 Stewart Avenue, Suite 410, Westbury, NY 11590; telephone 516-228-7330; fax 516-794-5531; email 9-avs-nyaco-cos@faa.gov.

SUPPLEMENTARY INFORMATION: AD 2020-02-19, Amendment 39-19831 (85 FR 7857, February 12, 2020) (“AD 2020-02-19”), currently requires revising the existing maintenance or inspection program, as applicable, to incorporate new or more restrictive airworthiness limitations; revising the applicability to include additional airplanes; and revising certain compliance times. That AD applies to certain Bombardier, Inc., Model CL-600-2B19 (Regional Jet series 100 & 440) airplanes.

Need for the Correction

As published, paragraph (h)(2) of AD 2020-02-19 contains a typographical error. Paragraph (h)(2) of the AD incorrectly specifies Bombardier CL-600-2B19 Airworthiness Requirements Temporary Revision 2B-2265, dated July 19, 2018, to Appendix B—Airworthiness Limitations, of Part 2 of the Bombardier Maintenance Requirements Manual, for performing the inspection. The correct service information for performing the inspection is Bombardier CL-600-2B19 Maintenance Requirements Temporary Revision 2B-2266, dated July 19, 2018, to Appendix B—Airworthiness Limitations, of Part 2 of the Bombardier Maintenance Requirements Manual.

Related Service Information Under 1 CFR Part 51

Bombardier has issued Bombardier CL-600-2B19 Temporary Revision 2B-2265, dated July 19, 2018, to Appendix B—Airworthiness Limitations, of Part 2 of the Bombardier Maintenance Requirements Manual; and Bombardier CL-600-2B19 Temporary Revision 2B-2266, dated July 19, 2018, to Appendix B—Airworthiness Limitations, of Part 2 of the Bombardier Maintenance Requirements Manual. These temporary revisions describe airworthiness limitations for inspections of the pressure floor skin. This service information is reasonably available because the interested parties have access to it through their normal course of business or by the means identified in the ADDRESSES section.

Correction of Publication

This document corrects an error and correctly adds the AD as an amendment to 14 CFR 39.13. Although no other part of the preamble or regulatory information has been corrected, the FAA is publishing the entire rule in the Federal Register.

The effective date of this AD remains March 18, 2020.

Since this action only corrects a service information reference for the inspection, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2020-02-19 Bombardier, Inc.: Amendment 39-19831; Docket No. FAA-2019-0720; Product Identifier 2019-NM-117-AD.

(a) Effective Date

This AD is effective March 18, 2020.

(b) Affected ADs

This AD replaces AD 2003-09-04 R1, Amendment 39-13305 (68 FR 54985, September 22, 2003) (“AD 2003-09-04 R1”).

(c) Applicability

This AD applies to Bombardier, Inc., Model CL-600-2B19 (Regional Jet series 100 & 440) airplanes, certificated in any category, serial numbers 7003 through 8999 inclusive.

(d) Subject

Air Transport Association (ATA) of America Code 53, Fuselage.

(e) Reason

This AD was prompted by a report of fatigue cracks occurring on the pressure floor skin at fuselage stations (FS) 460 and 513. The FAA is issuing this AD to address such fatigue cracks, which could result in failure of the pressure floor skin and consequent rapid decompression of the airplane during flight.

(f) Compliance

Comply with this AD within the compliance times specified, unless already done.

(g) Maintenance Program Revision for Serial Numbers 7003 Through 8079

For airplane serial numbers 7003 through 8079 inclusive: Within 30 days from the effective date this AD, revise the existing maintenance or inspection program, as applicable, by incorporating the information specified in Airworthiness Limitations (AWL) task number 53-41-149 specified in Bombardier CL-600-2B19 Airworthiness Requirements Temporary Revision 2B-2265, dated July 19, 2018, to Appendix B—Airworthiness Limitations, of Part 2 of the Bombardier Maintenance Requirements Manual.

(1) The initial compliance time for doing the task is at the time specified in figure 1 to paragraph (g)(1) of this AD, or within 90 days after the effective date of this AD, whichever occurs later.

(2) For airplanes on which Bombardier Service Bulletin 601R-53-067, Bombardier Service Bulletin 601R-53-077, and AWL task number 53-41-194 have been done, the inspections in AWL task number 53-41-149 are not required in the areas covered by doublers at FS460 and FS513.

(3) For airplanes on which the initial inspection has been accomplished at 18,325 or more total flight cycles, and no cracks were found, as of October 7, 2003 (the effective date of AD 2003-09-04), the repetitive interval of 10,000 flight cycles starts from the completion date of the initial inspection.

(4) For airplanes that were previously inspected using AWL task number 53-41-193, perform an inspection using the information specified in AWL task number 53-41-149, provided in Bombardier CL-600-2B19 Airworthiness Requirements Temporary Revision 2B-2265, dated July 19, 2018, to Appendix B—Airworthiness Limitations, of Part 2 of the Bombardier Maintenance Requirements Manual, within 10,000 flight cycles from the previously accomplished inspection.

(h) Maintenance Program Revision for Serial Numbers 8080 Through 8999

(1) For airplane serial numbers 8080 through 8999 inclusive: Within 30 days from the effective date of this AD, revise the existing maintenance or inspection program, as applicable, by incorporating the information specified in AWL task number 53-41-193 specified in Bombardier CL-600-2B19 Airworthiness Limitations Temporary Revision 2B-2266, dated July 19, 2018, to Appendix B—Airworthiness Limitations, of Part 2 of the Bombardier Maintenance Requirements Manual. Except as specified in paragraph (h)(2) of this AD, the initial compliance time for doing the task is at the time specified in Bombardier CL-600-2B19 Airworthiness Requirements Temporary Revision 2B-2266, dated July 19, 2018, to Appendix B—Airworthiness Limitations, of Part 2 of the Bombardier Maintenance Requirements Manual, or within 90 days after the effective date of this AD, whichever occurs later.

(2) For airplanes that were previously inspected using AWL task number 53-41-149, perform an inspection by incorporating the information specified in AWL task number 53-41-193, provided in Bombardier CL-600-2B19 Maintenance Requirements Temporary Revision 2B-2266, dated July 19, 2018, to Appendix B—Airworthiness Limitations, of Part 2 of the Bombardier Maintenance Requirements Manual, within 10,000 flight cycles from the previously accomplished inspection.

(i) Corrective Actions

If any crack is found during any inspection required by this AD, before further flight, repair using a method approved by the Manager, New York ACO Branch, FAA; or Transport Canada Civil Aviation (TCCA); or Bombardier, Inc.'s TCCA Design Approval Organization (DAO), and accomplish any repair instructions, including any new airworthiness limitations and inspection requirements accordingly. If approved by the DAO, the approval must include the DAO-authorized signature.

(j) No Alternative Actions or Intervals

After the maintenance or inspection program has been revised as required by paragraphs (g), (h), and (i) of this AD, as applicable, no alternative actions (e.g., inspections) or intervals may be used unless the actions or intervals are approved as an AMOC in accordance with the procedures specified in paragraph (k)(1) of this AD.

(k) Other FAA AD Provisions

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531.

(i) Before using any approved AMOC, notify your appropriate principal inspector, or lacking a principal inspector, the manager of the local flight standards district office/certificate holding district office.

(ii) AMOCs approved previously for AD 2003-09-04 R1 are approved as AMOCs for the corresponding provisions of this AD.

(2) Contacting the Manufacturer: For any requirement in this AD to obtain instructions from a manufacturer, the instructions must be accomplished using a method approved by the Manager, New York ACO Branch, FAA; or TCCA; or Bombardier, Inc.'s TCCA DAO. If approved by the DAO, the approval must include the DAO-authorized signature.

(l) Related Information

(1) Refer to Mandatory Continuing Airworthiness Information (MCAI) Canadian AD CF-2002-39R2, dated August 15, 2019, for related information. This MCAI may be found in the AD docket on the internet at https://www.regulations.gov by searching for and locating Docket No. FAA-2019-0720.

(2) For more information about this AD, contact Andrea Jimenez, Aerospace Engineer, Airframe and Mechanical Systems Section, FAA, New York ACO Branch, 1600 Stewart Avenue, Suite 410, Westbury, NY 11590; telephone 516-228-7330; fax 516-794-5531; email 9-avs-nyaco-cos@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 18, 2020 (85 FR 7857, February 12, 2020).

(i) Bombardier CL-600-2B19 Maintenance Requirements Temporary Revision 2B-2265, dated July 19, 2018, to Appendix B—Airworthiness Limitations, of Part 2 of the Bombardier Maintenance Requirements Manual.

(ii) Bombardier CL-600-2B19 Maintenance Requirements Temporary Revision 2B-2266, dated July 19, 2018, to Appendix B—Airworthiness Limitations, of Part 2 of the Bombardier Maintenance Requirements Manual.

(4) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet https://www.bombardier.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, email fedreg.legal@nara.gov, or go to: http://www.archives.gov/federal-register/cfr/ibr-locations.html.

Issued on February 20, 2020.
Lance T. Gant,
Director, Compliance & Airworthiness Division, Aircraft Certification Service.

[FR Doc. 2020-03828 Filed 2-25-20; 8:45 am]

BILLING CODE 4910-13-P